DEPARTMENT OF COMMERCE

National Institute of Standards and Technology

Notice of Prospective Grant of Exclusive Patent License

AGENCY: National Institute of Standards and Technology, Commerce.

SUMMARY: This is a notice in accordance with 35 U.S.C. 209(c)(1) and 37 CFR 404.7(a)(1)(i) that the National Institute of Standards and Technology (“NIST”), U.S. Department of Commerce, is contemplating the grant of an exclusive license in the United States of America, its territories, possessions and commonwealths, to NIST's interest in the invention embodied in U.S. Patent No. 5,620,857 (Application No. 08/473,979), titled “Optical Trap for Detection and Quantitation of Subzeptomolar Quantities of Analytes,” NIST Docket No. 94-042US to Haemonetics Corporation, having a place of business at 400 Wood Road, Braintree, Massachusetts 02184-9114. The grant of the license would be for the field of use: Chemical and biological material sensing and measurement for medical diagnostics.

FOR FURTHER INFORMATION CONTACT: J. Terry Lynch, National Institute of Standards and Technology, Office of Technology Partnerships, 100 Bureau Drive, Stop 2200, Gaithersburg, MD 20899, Phone 301-975-2691.

SUPPLEMENTARY INFORMATION: The prospective exclusive license will be royalty bearing and will comply with the terms and conditions of 35 U.S.C. 209 and 37 CFR 404.7. The prospective exclusive license may be granted unless, within thirty days from the date of this published Notice, NIST receives written evidence and argument which establish that the grant of the license would not be consistent with the requirements of 35 U.S.C. 209 and 37 CFR 404.7. The availability of the invention for licensing was published in the Federal Register on June 24, 2003.

U.S. Patent No. 5,620,857 is owned by the U.S. government, as represented by the Secretary of Commerce. Tightly focused beams of laser light are used as “optical tweezers” to trap and manipulate polarizable objects such as microspheres of glass or latex with diameters on the order of 4.5 .mu.m. When analytes are allowed to adhere to the microspheres, small quantities of these analytes can be manipulated, thus allowing their detection and quantitation even when amounts and concentrations of the analytes are extremely small. Illustrative examples include measuring the strength needed to break antibody-antigen bonds and the detection of DNA sequences.

Dated: May 16, 2007.
James M. Turner,
Deputy Director.

[FR Doc. E7-9826 Filed 5-21-07; 8:45 am]

BILLING CODE 3510-13-P